OFFICE OF PERSONNEL MANAGEMENT

Excepted Service

AGENCY: Office of Personnel Management (OPM).

ACTION: Notice.

SUMMARY: This notice identifies Schedule A, B, and C appointing authorities applicable to a single agency that were established or revoked from October 1, 2021 to October 31, 2021.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

Department of State (Sch. A, 213.3104)

(g) Bureau of Population, Refugees, and Migration—

(1) Not to exceed 20 positions at grades GS-5 through 15 on the staff of the Bureau.

Schedule B

No Schedule B Authorities to report during October 2021.

Schedule C

The following Schedule C appointing authorities were approved during October 2021.

Agency name | Organization name | Position title | Authorization No. | Effective date
DEPARTMENT OF AGRICULTURE | Office of Communications Farm Service Agency | Deputy Press Secretary Policy Advisor (2) | DA220001 DA220007 | 10/21/2021 10/21/2021
|  |  | DA220012 | 10/24/2021
|  | State Executive Director—Mississippi | DA220010 | 10/29/2021
| Office of the Under Secretary for Research, Education, and Economics | Special Assistant | DA220011 | 10/21/2021
| Office of Rural Development | State Director—Arizona | DA220003 | 10/29/2021
|  | State Director—Wisconsin | DA220004 | 10/29/2021
|  | State Director—Colorado | DA220009 | 10/29/2021
DEPARTMENT OF COMMERCE | Bureau of Industry and Security | Director of Congressional and Public Affairs | DC220006 | 10/07/2021
| Office of International Trade Administration | Press Secretary | DC220015 | 10/25/2021
| Minority Business Development Agency | Senior Advisor | DC220017 | 10/22/2021
| Office of Executive Secretariat | Deputy Director, Office of Executive Secretariat | DC220014 | 10/22/2021
| Office of Legislative and Intergovernmental Affairs | Special Assistant | DC220013 | 10/22/2021
| Office of the General Counsel | Special Assistant | DC220002 | 10/10/2021
DEPARTMENT OF THE AIR FORCE | Office of the Assistant Secretary Air Force, Installations, Environment, and Energy | Special Assistant | DF210028 | 10/13/2021
DEPARTMENT OF EDUCATION | Office of Career Technical and Adult Education | Senior Advisor | DB210140 | 10/18/2021
| Office of the Secretary | Senior Advisor | DB210141 | 10/18/2021
| Office of Communications and Outreach | Deputy Press Secretary | DB210143 | 10/18/2021
ENVIRONMENTAL PROTECTION AGENCY | Office of Public Affairs | Senior Advisor for Digital Strategies and Content Development | EP220007 | 10/27/2021
EQUAL EMPLOYMENT OPPORTUNITY COMMISSION | Office of the Chair | Writer-Editor (Speeches) | EE220001 | 10/15/2021
FEDERAL MEDIATION AND CONCILIATION SERVICE | Office of the Director | Management and Program Analyst | FM210001 | 10/20/2021
GENERAL SERVICES ADMINISTRATION | Office of General Counsel | Counsel to the General Counsel | GS220001 | 10/10/2021
| Office of the Administrator | Special Assistant | GS220002 | 10/12/2021
DEPARTMENT OF HEALTH AND HUMAN SERVICES | Office of Administration for Children and Families | Senior Advisor (2) | DH210250 | 10/01/2021
|  |  | DH220010 | 10/21/2021
| Office of Administration for Community Living | Special Assistant | DH220005 | 10/15/2021
| Office of Intergovernmental and External Affairs | Special Assistant | DH220003 | 10/15/2021
|  | Regional Director, Dallas, TX, Region VI | DH220004 | 10/26/2021
| Office of the Assistant Secretary for Public Affairs | Press Assistant | DH220006 | 10/19/2021
|  | Special Assistant | DH220007 | 10/20/2021
| Office of the Secretary | Special Assistant | DH210244 | 10/06/2021
DEPARTMENT OF HOMELAND SECURITY | Office of the United States Customs and Border Protection | Advisor to the Commissioner | DM210477 | 10/20/2021
| Office of the Secretary | Deputy White House Liaison | DM220014 | 10/24/2021
DEPARTMENT OF HOUSING AND URBAN DEVELOPMENT | Office of Community Planning and Development | Senior Advisor | DU220004 | 10/12/2021
| Office of Congressional and Intergovernmental Relations | Deputy Assistant Secretary for Intergovernmental Relations | DU220005 | 10/21/2021
| Office of Field Policy and Management | Regional Administrator Region VII Regional Administrator Region VIII | DU220001 DU220002 | 10/26/2021 10/26/2021
DEPARTMENT OF THE INTERIOR | Secretary's Immediate Office | Director, Office of Scheduling and Advance | DI210142 | 10/04/2021
DEPARTMENT OF JUSTICE | Office of Community Relations Service | Senior Counsel | DJ210181 | 10/07/2021
| Office of Legislative Affairs | Counsel | DJ210179 | 10/07/2021
|  | Senior Counsel | DJ220001 | 10/07/2021
| Office of Public Affairs | Chief Speechwriter | DJ220006 | 10/26/2021
| Office of Violence Against Women | Policy Advisor | DJ210178 | 10/07/2021
DEPARTMENT OF LABOR | Office of Occupational Safety and Health Administration | Senior Policy Advisor | DL220001 | 10/27/2021
| Office of Public Affairs | Deputy Speechwriter | DL220002 | 10/28/2021
| Office of the Deputy Secretary | Senior Advisor | DL220005 | 10/28/2021
| Office of the Solicitor | Counsel | DL220003 | 10/19/2021
| Office of Veterans Employment and Training Service | Special Assistant | DL210125 | 10/06/2021
NATIONAL AERONAUTICS AND SPACE ADMINISTRATION | Office of Communications | Senior Advisor for Strategic Communications | NN210073 | 10/07/2021
OFFICE OF MANAGEMENT AND BUDGET | Office of E-Government and Information Technology | Senior Advisor for Technology and Delivery (United States Digital Service) | BO210081 | 10/01/2021
| Office of Information and Regulatory Affairs | Counselor | BO210083 | 10/01/2021
| Office of Communications | Deputy Associate Director for Communications | BO220003 | 10/25/2021
SECURITIES AND EXCHANGE COMMISSION | Office of the Chairman | Senior Advisor | SE210030 | 10/19/2021
| Office of General Counsel | General Counsel | SE220002 | 10/29/2021
SMALL BUSINESS ADMINISTRATION | Office of Entrepreneurial Development | Assistant Administrator for Native American Affairs | SB220004 | 10/24/2021
| Office of Field Operations | Regional Administrator, Region I | SB220005 | 10/29/2021
|  | Regional Administrator, Region II | SB220001 | 10/29/2021
|  | Regional Administrator, Region III | SB210054 | 10/29/2021
|  | Regional Administrator, Region IV | SB220008 | 10/29/2021
|  | Regional Administrator, Region IX | SB220003 | 10/29/2021
|  | Regional Administrator, Region X | SB220002 | 10/29/2021
| Office of the Administrator | Director of Advance | SB220007 | 10/29/2021
DEPARTMENT OF STATE | Office of the Under Secretary for Public Diplomacy and Public Affairs | Senior Advisor | DS220002 | 10/06/2021
TRADE AND DEVELOPMENT AGENCY | Office of the Director | Director of Public Engagement | TD210003 | 10/10/2021
DEPARTMENT OF TRANSPORTATION | National Highway Traffic Safety Administration | Director of Governmental and External Affairs | DT220001 | 10/29/2021
| Office of the Executive Secretariat | Engagement Program Manager | DT220003 | 10/29/2021
DEPARTMENT OF THE TREASURY | Under Secretary for Terrorism and Financial Intelligence | Senior Advisor | DY220004 | 10/25/2021
DEPARTMENT OF VETERANS AFFAIRS | Office of the Secretary and Deputy | Special Assistant | DV210115 | 10/13/2021

The following Schedule C appointing authorities were revoked during October 2021.

Agency name | Organization name | Position title | Request No. | Vacate date
CONSUMER PRODUCT SAFETY COMMISSION | Office of Communications | Supervisory Public Affairs Specialist | PS190003 | 10/12/2021
DEPARTMENT OF ENERGY | Office of the Assistant Secretary for Congressional and Intergovernmental Affairs | Special Assistant | DE210149 | 10/09/2021
| Office of the Assistant Secretary for Energy Efficiency and Renewable Energy | Special Assistant | DE210120 | 10/09/2021
| Office of the Assistant Secretary for Fossil Energy | Special Assistant | DE210107 | 10/09/2021
| Office of the Assistant Secretary for International Affairs | Special Assistant | DE210121 | 10/09/2021
| Office of Policy | Special Assistant | DE210139 | 10/09/2021
| Office of Public Affairs | Press Secretary | DE210128 | 10/01/2021
| Office of Under Secretary for Science | Special Assistant | DE210129 | 10/09/2021
DEPARTMENT OF HEALTH AND HUMAN SERVICES | Office of the Assistant Secretary for Preparedness and Response | Special Assistant | DH210142 | 10/23/2021
| Office of the Assistant Secretary for Public Affairs | Press Secretary | DH210096 | 10/28/2021
DEPARTMENT OF THE INTERIOR | Secretary's Immediate Office | Deputy Director, Office of Scheduling and Advance | DI210121 | 10/09/2021
FEDERAL TRADE COMMISSION | Office of the Chair | Technology Advisor | FT180008 | 10/08/2021
NATIONAL AERONAUTICS AND SPACE ADMINISTRATION | Office of the Administrator | White House Liaison | NN210017 | 10/24/2021
NATIONAL ENDOWMENT FOR THE HUMANITIES | National Endowment for the Humanities | Director of Congressional Affairs | NH170008 | 10/10/2021
NATIONAL TRANSPORTATION SAFETY BOARD | Office of Board Members | Special Assistant (2) | TB190001 TB090012 | 10/01/2021 10/23/2021
SECURITIES AND EXCHANGE COMMISSION | Office of the Chairman | Senior Advisor | SE210028 | 10/19/2021

(Authority: 5 U.S.C. 3301 and 3302; E.O. 10577, 3 CFR, 1954-1958 Comp., p. 218.)

Office of Personnel Management.
Stephen Hickman,
Federal Register Liaison.

[FR Doc. 2022-12093 Filed 6-3-22; 8:45 am]

BILLING CODE 6325-39-P